DEPARTMENT OF THE INTERIOR

National Park Service

Notice of Intent To Prepare an Environmental Impact Statement (EIS) for an Oil and Gas Management Plan (O&GMP) Big South Fork National River and Recreation Area (BISO), and Obed Wild and Science River (OBRI)

AGENCY: National Park Service.

SUMMARY: Notice is hereby given in accordance with the National Environmental Policy Act of 1969 (NEPA), 42 U.S.C. 4332 and Council on Environmental Quality regulation 40 CFR 1506.6, that the U.S. Department of the Interior, National Park Service (NPS), is preparing an EIS for an O&GMP for BISO and OBRI.

The BISO/OBRI O&GMP/EIS will:

• Identify resources impacted by oil and gas operations, and provide a comprehensive framework to remedy the resulting environmental problems.

• Allow for exploration and development of the private mineral estate.

• Facilitate operator planning by setting park-specific operating standards.

• Provide educational outreach to operators, including guidance on the regulatory process for bringing operations into compliance with applicable legal requirements.

• Enhance coordination with State natural resource agencies to better manage and enforce oil and gas operations according to State standards.

• Evaluate the potential for NEPA streamlining for plugging and reclaiming orphaned or exhausted oil and gas operations.

• Evaluate public use of oil and gas access roads.

• Address visitor safety issues related to oil and gas operations.

• Provide for a range of reasonable alternatives for managing oil and gas operations, and assess potential impacts on park resoures such as threatened and endangered species, soils, wetlands, wildlife, cultural resources, and public safety, while allowing for the exercise of oil and gas rights.

• Provide the framework to achieve sound decision-making and resource protection at BISO and OBRI for the next 15 to 20 years.

A scoping brochure will be available summarizing the purpose, need and objectives of the O&GMP/EIS. Copies of that information may be obtained by visiting the NPS public comment and planning Web site at http://parkplanning.nps.gov/biso, or from the Office of the Superintendent, Big South Fork NRRA, 4564 Leatherwood Road, Oneida, Tennessee 37841, telephone number 423-569-9778.

DATES: To determine the scope of issues to be addressed in the O&GMP and EIS and to identify significant issues related to the management of oil and gas operations at BISO and OBRI, the NPS will conduct public scoping meetings in mid-summer/early fall in both Tennessee and Kentucky. Representatives of the NPS will be available to discuss issues, resource concerns, and the planning process at each of the public meetings. When public scoping meetings have been scheduled, their locations, dates, and times will be published in local newspapers and posted on the NPS Planning, Environment and Public Comment (PEPC) Web site at http://parkplanning.nps.gov/biso. To be most helpful to the scoping process, comments should be received within 30 days of the beginning of the public comment period.

ADDRESSES: If you wish to comment on the scoping brochure or on any other issues associated with the BISO/OBRI O&GMP/EIS, you may submit your comments by any one of several methods. Comments may be entered on-line in the NPS Planning, Environment and Public Comment System (PEPC) Web site at http://parkplanning.nps.gov/biso. To comment using PEPC, select the Big South Fork O&GMP/EIS project, select documents, select this Notice of Intent, and then select Comment and enter your comments (enter comments related to the OBRI here as well). You may also mail comments to Superintendent, Big South Fork NRRA, 4564 Leatherwood Road, Oneida, Tennessee 37841, (BISO O&GMP Public Scoping) and your name and return address. Finally, you may hand-deliver comments to Big South Fork NRRA, 4564 Leatherwood Road, Oneida, Tennessee 37841.

It is the practice of the NPS to make all comments, including names and addresses of respondents who provide that information, available for public review following the conclusion of the NEPA process. Individuals may request that the NPS withhold their name and/or address from public disclosure. If you wish to do this, you must state this prominently at the beginning of your comment. Commentators using the Web site can make such a request by checking the box “keep my contact information private.” NPS will honor such requests to the extent allowable by law, but you should be aware that NPS may still be required to disclose your name and address pursuant to the Freedom of Information Act.

Information will also be available for public review and comment in the Office of the Superintendent, Big South Fork NRRA, 4564 Leatherwood Road, Oneida, Tennessee 37841, telephone: 423-569-9778; and in the Office of the Unit Manager, Obed Wild and Scenic River, 208 North Maiden St., Wartburg, Tennessee 37887, telephone: 423-346-6294.

SUPPLEMENTARY INFORMATION: The following purpose and need statements related to the management of non-Federal oil and gas operations at BISO and OBRI were developed at an internal scoping meeting of NPS staff.

The purpose of the Draft O&GMP/EIS for BISO and OBRI is to analyze alternative approaches, clearly define a strategy, and provide guidance for the next 15 to 20 years to ensure that activities undertaken by owners and operators of private oil and gas rights are conducted in a manner that protects park resources and values, visitor use and experience, and human health and safety. The plan is strategic in nature and will not establish any rights or obligations; NPS authorizes actual operations on a site-specific basis.

There are over 300 private oil and gas operations within the BISO and OBRI. Many of the past and existing oil and gas operations in these NPS units are adversely impacting resources and values, human health and safety, and visitor use and experience; most are not in compliance with Federal and State regulations, most notably, the NPS regulations governing non-Federal oil and gas rights, 36 CFR part 9, subpart B. In addition, future oil and gas operations have the potential to damage park resources and values. The plan is needed to provide an efficient and effective strategy for park managers to ensure the units are protected for the enjoyment of future generations. There is also a need for park-specific guidance to help oil and gas operators in their planning efforts.

The following objectives are proposed for the management of non-Federal oil and gas operations at BISO and OBRI:

General

• Provide owners and operators of private oil and gas rights reasonable access for exploration, production, maintenance, and surface reclamation.

• Bring existing operations into compliance with Federal and State requirements.

• Identify and protect resources that could be adversely affected by impacts from oil and gas operations.

Water Resources

• Protect and enhance water resources.

Threatened and Endangered Species

• Protect species of management concern from unacceptable adverse impacts resulting from oil and gas operations.

• Protect critical habitat from adverse modification resulting from oil and gas operations.

Visitor Experience, Conflicts, and Safety

• Prevent, minimize, or mitigate conflicts between oil and gas operations and visitor use.

• Protect human health and safety from oil and gas operations.

Cultural Resources

• Protect cultural resources, including those on or eligible for listing on the National Register of Historic Places.

Park Management and Operations

• Provide pertinent guidance to operators to facilitate planning and compliance with NPS regulations.

• Establish an efficient process under NEPA for plugging and reclaiming orphaned or exhausted oil and gas operations.

FOR FURTHER INFORMATION CONTACT: Reed E. Detring, Superintendent, Big South Fork NRRA, 4564 Leatherwood Road, Oneida, Tennessee 37841, telephone: 423-569-9778.

Authority: The authority for publishing this notice is 40 CFR 1506.6.

The responsible official for this O&GMP/EIS is Patricia A. Hooks, Regional Director, Southeast Region, National Park Service, 100 Alabama Street, SW., 1924 Building, Atlanta, Georgia 30303.

Dated: March 28, 2006.
Patricia A. Hooks,
Regional Director, Southeast Region.

[FR Doc. 06-4951 Filed 5-30-06; 8:45 am]

BILLING CODE 4310-70-M